DEPARTMENT OF COMMERCE

International Trade Administration

(A-122-840)

Carbon and Certain Alloy Steel Wire Rod from Canada: Notice of Amended Final Results of Antidumping Duty Administrative Review

AGENCY: Import Administration, International Trade Administration, Department of Commerce.

EFFECTIVE DATE: May 21, 2008.

FOR FURTHER INFORMATION CONTACT: Salim Bhabhrawala or David Neubacher, at (202) 482-1784 or (202) 482-5823, respectively; AD/CVD Operations, Office 1, Import Administration, International Trade Administration, U.S. Department of Commerce, 14th Street & Constitution Avenue, NW, Washington, DC 20230.

SUPPLEMENTARY INFORMATION: On January 24, 2006, the Department of Commerce (“Department”) published in the Federal Register the final results for the second administrative review of the antidumping duty order on carbon and certain alloy steel wire rod from Canada. See Notice of Final Results of Antidumping Duty Administrative Review: Carbon and Certain Steel Alloy Steel Wire Rod from Canada, 71 FR 3822 (Jan. 24, 2006) (Final Results). Mittal Canada, Inc. (formerly Ispat Sidbec Inc.) (“Mittal”) challenged several aspects of the Final Results before a NAFTA binational panel. On November 28, 2007, the panel issued a decision. See Carbon and Certain Alloy Steel Wire Rod from Canada, Decision of the Panel, USA-CDA-2006-1904-04 (Nov. 28, 2007).

On April 17, 2008, the United States Department of Commerce, Mittal, and Gerdau Ameristeel U.S., Inc. and Keystone Consolidated Industries, Inc. entered into a Settlement Agreement covering this NAFTA proceeding (“Agreement”). Pursuant to this settlement of litigation, Mittal filed a consent motion to terminate the panel review and vacate the panel's decisions in the proceeding referenced above. On April 29, 2008, the NAFTA Secretariat of the U.S. Section published the notice of termination of the panel review. See North American Free Trade Agreement (NAFTA), Article 1904; Binational Panel Reviews: Notice of Consent Motion to Terminate Panel Review, 73 FR 23183 (Apr. 29, 2008). The review period covered by these amended final results is from October 1, 2003 through September 30, 2004.

Assessment of Duties

Pursuant to the Agreement, the Department is amending the final results of the contested review and will instruct U.S. Customs and Border Protection (CBP) to liquidate all entries of Canadian wire rod that were entered, or withdrawn from warehouse, for consumption during the period of October 1, 2003 through September 30, 2004, that were produced and exported by Mittal or Ispat Sidbec Inc., at the assessment rate of 3.86% ad valorem. Because parties waived any right to challenge these amended final results pursuant to the Agreement, the Department will issue assessment instructions to CBP following publication of this notice.

Cash-Deposit Requirements

As provided by section 751(a)(1) of the Tariff Act of 1930, as amended, and as stipulated in the Agreement with regard to the settlement of the second administrative review, the cash-deposit rate for all shipments of Canadian wire rod produced and exported by Mittal entered, or withdrawn from warehouse, for consumption on or after May 21, 2008, 2008, shall be 3.86% ad valorem. The deposit requirements shall remain in effect until further notice.

We are issuing and publishing this notice in accordance with sections 751(a)(1) and 777(i)(1) of the Tariff Act of 1930, as amended.

Dated: May 15, 2008.
David M. Spooner,
Assistant Secretary for Import Administration.

[FR Doc. E8-11435 Filed 5-20-08; 8:45 am]

BILLING CODE 3510-DS-S